DEPARTMENT OF LABOR

Employment and Training Administration

[TA-W-38,083, TA-W-38,083A]

Allegheny Ludlum Corporation; Washington and Houston, PA; Amended Certification Regarding Eligibility To Apply for Worker Adjustment Assistance

In accordance with Section 223 of the Trade Act of 1974 (19 U.S.C. 2273) the Department of Labor issued a Notice of Certification Regarding Eligibility to Apply for Worker Adjustment Assistance on December 19, 2000, applicable to workers of Allegheny Ludlum Corporation, Jessop Plate Mill, Jessop O&T, Washington Flat Roll (formerly Washington Steel Corporation), Washington, Pennsylvania and Allegheny Ludlum Corporation, Houston, Texas. The notice was published in the Federal Register on January 11, 2001 (66 FR 2451).

At the request of the State agency, the Department reviewed the certification for workers of the subject firm. The workers produce stainless steel, including slab, coil and plate as well as tool steel. New findings show that there was a previous certification, TA-W-34,026 and TA-W-34,026A, issued on January 14, 1998, for workers of the subject firm who were engaged in employment related to the production of stainless steel products. That certification expired January 14, 2000. To avoid an overlap in worker group coverage, the certification is being amended to change the impact date from August 30, 1999 to January 15, 2000, for workers of the subject firm.

The amended notice applicable to TA-W-38,083 is hereby issued as follows:

All workers of Allegheny Ludlum Corporation, Jessop Plant Mill, Jessop O&T and Washington Flat Roll (formerly Washington Steel Corporation), Washington, Pennsylvania and Houston, Pennsylvania who became totally or partially separated from employment on or after January 15, 2000 through December 19, 2002 are eligible to apply for adjustment assistance under Section 223 of the Trade Act of 1974.

Signed at Washington, DC, this 31st day of January, 2001.
Linda G. Poole,
Certifying Officer, Division of Trade Adjustment Assistance.

[FR Doc. 01-3294 Filed 2-7-01; 8:45 am]

BILLING CODE 4510-30-M